DEPARTMENT OF TRANSPORTATION

Federal Aviation Administration

Sixty First Meeting: RTCA Special Committee 135, Environmental Conditions and Test Procedures for Airborne Equipment

AGENCY: Federal Aviation Administration (FAA), U.S. Department of Transportation (DOT).

ACTION: Meeting Notice of RTCA Special Committee 135, Environmental Conditions and Test Procedures for Airborne Equipment.

SUMMARY: The FAA is issuing this notice to advise the public of the Sixty-First meeting of the RTCA Special Committee 135, Environmental Conditions and Test Procedures for Airborne Equipment.

DATES: The meeting will be held March 21, 2013 from 9 a.m. to 3 p.m.

ADDRESSES: The meeting will be held at RTCA Headquarters, 1150 18th St. NW., Suite 910, Washington DC, 20036.

FOR FURTHER INFORMATION CONTACT: The RTCA Secretariat, 1150 18th Street NW., Suite 910, Washington, DC, 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 135. The agenda will include the following:

March 21, 2013

• Chairmen's Opening Remarks, Introductions.

• Introduction of FAA Representative

• Approval of Summary from the Sixtieth Meeting (RTCA Paper No. 012-13/SC135-691)

• Review open proposals for Users Guides

• Review Working Group Drafts

• Section 4

• Section 5

• Section 8

• Section 16

• Section 20

• Section 21

• New and Unfinished Business

• Errata Sheet

• Schedule for Users Guide

• Establish Date for Next SC-135 Meeting.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 24, 2013.
Richard F. Gonzalez,
Management Analyst, Business Operations Group, ANG-A12, Federal Aviation Administration.

[FR Doc. 2013-02334 Filed 2-1-13; 8:45 am]

BILLING CODE 4910-13-P